DEPARTMENT OF ENERGY

Federal Energy Regulatory Commission

[Docket No. EG01-229-000, et al.]

Plains End, LLC, et al.; Electric Rate and Corporate Regulation Filings

June 13, 2001

Take notice that the following filings have been made with the Commission:

1. Plains End, LLC

[Docket No. EG01-229-000]

Take notice that on June 11, 2001, Plains End, LLC (Applicant), a limited liability company with its principal place of business at 7500 Old Georgetown Road, 13th Floor, Bethesda, Maryland 20814-6161, filed with the Federal Energy Regulatory Commission (Commission) an application for determination of exempt wholesale generator status pursuant to Part 365 of the Commission's regulations.

Applicant proposes to construct, own or lease and operate a natural gas-fired power plant of approximately 113 MW capacity in Arvada, Colorado. The proposed power plant is expected to commence commercial operation on or about April, 2002. All output from the plant will be sold by Applicant exclusively at wholesale.

Comment date: July 5, 2001, in accordance with Standard Paragraph E at the end of this notice. The Commission will limit its consideration of comments to those that concern the adequacy or accuracy of the application.

2. ISO New England Inc.

[Docket No. EL00-62-026]

Take notice that on June 4, 2001, ISO New England Inc. submitted as a compliance filing in the above-referenced docket a new proposal for an Installed Capability market (with related changes) effective August 1, 2001. On June 5, 2001, ISO New England filed errata sheets to its June 4, 2001 compliance filing.

Copies of said filings have been served upon NEPOOL Participants and upon all non-Participant entities that are customers under the NEPOOL Open Access Transmission Tariff, as well as upon the governors and utility regulatory agencies of the six New England States.

Comment date: June 25, 2001, in accordance with Standard Paragraph E at the end of this notice.

3. PJM Interconnection, L.L.C.

[Docket No. EL01-63-001]

Take notice that on June 5, 2001, PJM Interconnection, L.L.C. (PJM) submitted a clean “Second Revised Sheet No. 53 Superceding First Revised Sheet No. 53” and “Second Revised Sheet No. 54 Superceding Second Revised Sheet No. 54” which was mis-designated in the original filing made April 5, 2001 in this docket.

Comment date: June 26, 2001, in accordance with Standard Paragraph E at the end of this notice.

4. The Detroit Edison Company; DTE Energy Trading, Inc.

[Docket No. ER01-1572-001]

Take notice that on June 7, 2001, The Detroit Edison Company (Detroit Edison) submitted for filing amendments to wholesale power contracts that were the subject of the Commission's May 17, 2001 order in this proceeding.

Comment date: June 28, 2001, in accordance with Standard Paragraph E at the end of this notice.

5. Southern Company—Florida LLC

[Docket No. ER01-1633-001]

Take notice that on June 7, 2001, Southern Company—Florida LLC submitted for filing a revised market rate tariff in compliance with the order of the Director, Division of Corporate Applications, issued on May 23, 2001.

Comment date: June 28, 2001, in accordance with Standard Paragraph E at the end of this notice.

6. Nine Mile Point Nuclear Station, LLC

[Docket No. ER01-1654-001]

Take notice that on June 8, 2001, Nine Mile Point Nuclear Station, LLC submitted for filing a First Substitute Sheet No. 2 to its FERC Electric Tariff, Original Volume No. 1, in compliance with the letter order issued in this docket on May 16, 2001.

Comment date: June 29, 2001, in accordance with Standard Paragraph E at the end of this notice.

7. Entergy Solutions Supply Ltd.

[Docket No. ER01-1675-001]

Take notice that on June 7, 2001, Entergy Solutions Supply Ltd. tendered a compliance filing for authorization to sell power at market-based rates. Copies of this filing have been served on the Arkansas Public Service Commission, Mississippi Public Service Commission, Louisiana Public Service Commission, Texas Public Utility Commission, and the Council of the City of New Orleans.

Comment date: June 28, 2001, in accordance with Standard Paragraph E at the end of this notice.

8. El Paso Electric Company; Public Service Company of New Mexico; Arizona Public Service Company

[Docket No. ER01-2091-001]

Salt River Project Agricultural Improvement and Power District

[Docket No. NJ01-7-001]

Take notice that on June 8, 2001, El Paso Electric Company, Public Service Company of New Mexico, Arizona Public Service Company, and the Salt River Project Agricultural Improvement and Power District, tendered for filing a clarification to their proposal to treat the multiple generating units that are connected to the Palo Verde/Hassayampa Common Bus Market Hub as a single point of receipt.

Comment date: June 29, 2001, in accordance with Standard Paragraph E at the end of this notice.

9. Allegheny Power Service Corporation, on behalf of Allegheny Energy Supply Lincoln Generating Facility, LLC (Allegheny Energy Supply—Lincoln)

[Docket No. ER01-2092-001]

Take notice that on June 7, 2001, Allegheny Power Service Corporation on behalf of Allegheny Energy Supply Lincoln Generating Facility, LLC (Allegheny Energy Supply—Lincoln) filed a correction to Service Agreement No. 2 under its Market Rate Tariff to reflect an assignment of Service Agreement No.2 from Commonwealth Edison Company to Exelon Generation Company, LLC.

Copies of the filing have been provided to the Public Utilities Commission of Ohio, the Pennsylvania Public Utility Commission, the Maryland Public Service Commission, the Virginia State Corporation Commission, the West Virginia Public Service Commission, and all parties of record.

Comment date: June 28, 2001, in accordance with Standard Paragraph E at the end of this notice.

10. New England Power Pool Participants Committee

[Docket No. ER01-2115-001]

Take notice that on June 7, 2001, the New England Power Pool (NEPOOL) Participants Committee amended its May 22, 2001 Informational Filing and Request for Order Regarding Standard Market Design—CMS/MSS (the Informational Filing). The amendment withdraws a request for an expeditious Commission order set forth in the Informational Filing.

The NEPOOL Participants Committee states that copies of these materials were sent to all persons on the Commission's official services lists in these proceedings, the NEPOOL Participants and the New England state governors and regulatory commissions.

Comment date: June 25, 2001, in accordance with Standard Paragraph E at the end of this notice.

11. Louisville Gas and Electric Company/Kentucky Utilities Company

[Docket No. ER01-2243-000]

Take notice that on June 7, 2001, Louisville Gas and Electric Company (LG&E)/Kentucky Utilities (KU) (hereinafter, Companies) tendered for filing an executed unilateral Service Sales Agreement between Companies and Northern Indiana Public Service Company under the Companies' Rate Schedule MBSS.

Comment date: June 28, 2001, in accordance with Standard Paragraph E at the end of this notice.

12. Louisville Gas And Electric Company/Kentucky Utilities Company

[Docket No. ER01-2244-000]

Take notice that on June 7, 2001, Louisville Gas and Electric Company (LG&E)/Kentucky Utilities (KU) (hereinafter, Companies) tendered for filing an executed transmission service agreement with Axia Energy, L.P. (Axia). This agreement allows Axia take non-firm point-to-point transmission service from LG&E/KU.

Comment date: June 28, 2001, in accordance with Standard Paragraph E at the end of this notice.

13. Louisville Gas and Electric Company/Kentucky Utilities Company

[Docket No. ER01-2245-000]

Take notice that on June 7, 2001, Louisville Gas and Electric Company (LG&E)/Kentucky Utilities (KU) (hereinafter, Companies) tendered for filing executed transmission service agreement with Axia Energy, L.P. (Axia). The agreement allows Axia to take firm point-to-point transmission service from the Companies.

Comment date: June 28, 2001, in accordance with Standard Paragraph E at the end of this notice.

14. Louisville Gas and Electric Company/Kentucky Utilities Company

[Docket No. ER01-2246-000]

Take notice that on June 7, 2001, Louisville Gas and Electric Company (LG&E)/Kentucky Utilities (KU) (hereinafter, Companies) filed a termination notice for firm and non-firm transmission service between the Companies and Consumers Energy Company d/b/a Consumers Energy Traders and The Detroit Edison Company. The terminated services are Tariff Volume 1 Service Agreement 166 for the firm transmission service and Tariff Volume 1 Service Agreement 167 for the non-firm transmission service.

Comment date: June 28, 2001, in accordance with Standard Paragraph E at the end of this notice.

15. Louisiana Generating LLC

[Docket No. ER01-2247-000]

Take Notice that Louisiana Generating LLC (Louisiana Generating), on June 7, 2001, tendered for filing a proposed change to its Rate Schedule FERC No. 4, Original Vol. 1. The proposed change reflects the assignment by the customer under the Rate Schedule, Municipal Electric Agency of Mississippi, of a portion of its power purchase rights to another party, Mississippi Delta Energy Agency. Louisiana Generating states that the affected customers requested the change and consent to it.

Copies of the filing were served upon Louisiana Generating's affected customers.

Comment date: June 28, 2001, in accordance with Standard Paragraph E at the end of this notice.

16. Cinergy Services, Inc.

[Docket No. ER01-2248-000]

Take notice that on June 7, 2001, Cinergy Services, Inc. (Cinergy) tendered for filing a revised pricing structures for Calendar Years 2005 and 2006 within the Confirmation Letter under Cinergy's Market-Based Power Sales Standard Tariff-MB (the Tariff) entered into between Cinergy and The Village of Georgetown, Ohio (Georgetown).

Cinergy and Georgetown are requesting an effective date of January 1, 2001.

Comment date: June 28, 2001, in accordance with Standard Paragraph E at the end of this notice.

17. Cinergy Services, Inc.

[Docket No.ER01-2249-000]

Take notice that on June 7, 2001, Cinergy Services, Inc. (Cinergy) tendered for filing a Notice of Name Change from Southern Company Energy Marketing, L.P. to Mirant Americas Energy Marketing, LP. Cinergy respectfully requests waiver of notice to permit the Notice of Name Change to be made effective as of the date of the Notice of Name Change.

A copy of the filing was served upon Mirant Americas Energy Marketing, LP.

Comment date: June 28, 2001, in accordance with Standard Paragraph E at the end of this notice.

18. Cinergy Services, Inc.

[Docket No. ER01-2250-000]

Take notice that on June 7, 2001, Cinergy Services, Inc. (“Cinergy”) tendered for filing a Service Agreement under Cinergy's Resale, Assignment or Transfer of Transmission Rights and Ancillary Service Rights Tariff (“the Tariff”) entered into between Cinergy and LG&E Energy Marketing Inc. (“LEM”). This Service Agreement has been executed by both parties and is to replace the existing unexecuted Service Agreement.

Comment date: June 28, 2001, in accordance with Standard Paragraph E at the end of this notice.

19. New York Independent System Operator, Inc.

[Docket No. ER01-2251-000]

Take notice that on June 6, 2001, the New York Independent System Operator, Inc. (“NYISO”) filed revisions to its Market Administration and Control Area Services Tariff (“Services Tariff”) in order to revise its rules governing Regulation and Frequency Response Service and uninstructed overgeneration. The NYISO is also proposing to establish a new charge to discourage persistent undergeneration. The NYISO has requested a waiver of the Commission's notice requirements so that this filing may become effective on July 25, 2001.

The NYISO has served a copy of this filing upon all parties that have executed Service Agreements under the NYISO's Open Access Transmission Tariff and Services Tariff, as well as the New York State Public Service Commission, and the electric utility regulatory agencies in New Jersey and Pennsylvania.

Comment date: June 28, 2001, in accordance with Standard Paragraph E at the end of this notice.

20. Xcel Energy Services, Inc.

[Docket No. ER01-2254-000]

Take notice that on June 7, 2001, Xcel Energy Services Inc. (“XES”), on behalf of Public Service Company of Colorado (“Public Service”), submitted for filing a Long-Term Firm Point-to-Point Transmission Service Agreement between Public Service and Tri-State Transmission & Generation, Inc. under Xcel's Joint Open Access Transmission Service Tariff (Xcel FERC Electric Tariff, Original Volume No. 1).

XES requests that this agreement, designated as Original Service Agreement No. 104-PSCo, become effective on May 8, 2001.

Comment date: June 28, 2001, in accordance with Standard Paragraph E at the end of this notice.

21. Xcel Energy Services, Inc.

[Docket No. ER01-2255-000]

Take notice that on June 7, 2001, Xcel Energy Services Inc. (“XES”), on behalf of Public Service Company of Colorado (“Public Service”), submitted for filing a Non-Firm Point-to-Point Transmission Service Agreement between Public Service and Portland General Electric under Xcel's Joint Open Access Transmission Service Tariff (Xcel FERC Electric Tariff, Original Volume No. 1).

XES requests that this agreement, designated as Original Service Agreement No. 106-PSCo, become effective on May 23, 2001.

Comment date: June 28, 2001, in accordance with Standard Paragraph E at the end of this notice.

22. Xcel Energy Services, Inc.

[Docket No. ER01-2256-000]

Take notice that on June 7, 2001, Xcel Energy Services Inc. (“XES”), on behalf of Public Service Company of Colorado (“Public Service”), submitted for filing a Short-Term Firm Point-to-Point Transmission Service Agreement between Public Service and Portland General Electric under Xcel's Joint Open Access Transmission Service Tariff (Xcel FERC Electric Tariff, Original Volume No. 1).

XES requests that this agreement, designated as Original Service Agreement No. 103-PSCo, become effective on May 23, 2001.

Comment date: June 28, 2001, in accordance with Standard Paragraph E at the end of this notice.

23. Cinergy Services, Inc.

[Docket No. ER01-2257-000]

Take notice that on June 7, 2001, Cinergy Services, Inc. (“Provider”) tendered for filing a Non-Firm Point-to-Point Service Agreement under Cinergy's Open Access Transmission Service Tariff (“OATT”) entered into between Cinergy and Energy USA—TPC Corp. “Customer”).

Provider and Customer are requesting an effective date of May 10, 2001.

Comment date: June 28, 2001, in accordance with Standard Paragraph E at the end of this notice.

24. Cinergy Services, Inc.

[Docket No. ER01-2258-000]

Take notice that on June 7, 2001, Cinergy Services, Inc. (Provider) tendered for filing a Firm Point-to-Point Service Agreement under Cinergy's Open Access Transmission Service Tariff (OATT) entered into between Provider and Energy USA—TPC Corp. (Customer).

Provider and Customer are requesting an effective date of May 10, 2001.

Comment date: June 28, 2001, in accordance with Standard Paragraph E at the end of this notice.

25. Tucson Electric Power Company

[Docket No. ER01-2259-000]

Take notice that on June 6, 2001, Tucson Electric Power Company tendered for filing an Umbrella Agreement for Short-Term Firm Point-to-Point Transmission Service dated as of March 13, 2001 by and between Tucson Electric Power Company City of Burbank—FERC Electric Tariff Vol. No. 2, Service Agreement No. 164, and a Form of Service Agreement for Non-Firm Point-to-Point Transmission Service dated as of April 11, 2001 by and between Tucson Electric Power Company City of Burbank—FERC Electric Tariff Vol. No. 2, Service Agreement No. 165. No service has commenced at this time for either filing.

Tucson requests that the service agreements become effective as of May 21, 2001.

Comment date: June 28, 2001, in accordance with Standard Paragraph E at the end of this notice.

26. American Transmission Company LLC

[Docket No. ER01-2260-000]

Take notice that on June 7, 2001, American Transmission Company LLC (ATCLLC) tendered for filing a Firm and Non-Firm Point-to-Point Service Agreement between ATCLLC and Western Resources.

ATCLLC requests an effective date of May 17, 2001.

Comment date: June 28, 2001, in accordance with Standard Paragraph E at the end of this notice.

27. Southwest Power Pool, Inc.

[Docket No. ER01-2267-000]

Take notice that on June 7, 2001, Southwest Power Pool, Inc. (SPP) submitted for filing three executed service agreements for Firm Point-to-Point Transmission Service, Non-Firm Point-to-Point Transmission Service, and Loss Compensation Service with InterGen Services, Inc. (Transmission Customer).

SPP seeks an effective date of June 4, 2001 for each of these service agreements.

A copy of this filing was served on the Transmission Customer.

Comment date: June 28, 2001, in accordance with Standard Paragraph E at the end of this notice.

28. Commonwealth Edison Company

[Docket No. ER01-2268-000]

Take notice that on June 7, 2001, Commonwealth Edison Company (ComEd) submitted for filing a Short-Term Firm Transmission Service Agreement with Calpine Energy Services, L.P. (CES) under the terms of ComEd's Open Access Transmission Tariff (OATT).

ComEd requests an effective date of May 11, 2001 for the service agreement and accordingly requests waiver of the Commission's notice requirements. Copies of the filing were served on CES.

Comment date: June 28, 2001, in accordance with Standard Paragraph E at the end of this notice.

29. Exelon Corporation On Behalf Of Its Subsidiaries; PECO Energy Company and Commonwealth Edison Company

[Docket No. OA01-6-000]

Take notice that on June 4, 2001, Exelon Corporation (Exelon) on behalf of its subsidiaries PECO Energy Company (PECO) and Commonwealth Edison Company (ComEd) submitted for filing Exelon's corporate procedure titled “Implementation of FERC Standards of Conduct,” to become effective on June 1, 2001. These Procedures are intended to supersede and replace the individual procedures of PECO and ComEd that implement the FERC Standards of Conduct and which were accepted by the FERC in Dockets Nos. OA97-440 (PECO) and OA00-5-000 (ComEd).

A copy of the filing was served on the PJM Interconnection, L.L.C. and the Illinois Commerce Commission

Comment date: July 5, 2001, in accordance with Standard Paragraph E at the end of this notice.

30. California Independent System Operator Corporation

[Docket No. ER01-2265-000]

Take notice that the California Independent System Operator Corporation, (ISO) on June 8, 2001, tendered for filing a Meter Service Agreement for ISO Metered Entities between the ISO and Soledad Energy, Inc. for acceptance by the Commission.

The ISO states that this filing has been served on Soledad Energy, Inc. and the California Public Utilities Commission.

Comment date: June 29, 2001, in accordance with Standard Paragraph E at the end of this notice.

31. Carolina Power & Light Company

[Docket No. ER01-1853-001]

Take notice that on June 8, 2001, Carolina Power & Light Company (CP&L) tendered for filing a corrected Cost Support for Appendix K (Monthly Facility Fee) to the executed Facility Interconnection and Operating Agreement with Lumberton Power, LLC (Lumberton) correcting a typographical error. CP&L requests waiver of the Commission's notice requirements in order for the Appendix K to become effective on April 24, 2001.

Copies of the filing were served upon Lumberton and the North Carolina Public Utilities Commission.

Comment date: June 29, 2001, in accordance with Standard Paragraph E at the end of this notice.

32. Southern Company Services, Inc.

[Docket No. ER01-2261-000]

Take notice that on June 8, 2001, Southern Company Services, Inc. (SCS), acting on behalf of Alabama Power Company (APC), tendered for filing an Interconnection Agreement (IA) by and between APC and Calhoun Power Company I, LLC (Calhoun). The IA allows Calhoun to interconnect its generating facility to be located in Calhoun County, Alabama, to APC's electric system.

An effective date of June 8, 2001 has been requested.

Comment date: June 29, 2001, in accordance with Standard Paragraph E at the end of this notice.

33. Frederickson Power L.P.

[Docket No. ER01-2262-000]

Take notice that on June 8, 2001, Frederickson Power L.P. filed with the Commission an application for authority to sell electric energy and capacity at market-based rates, including a request for waivers and blanket approvals under various regulations of the Commission and for an order accepting certain power sales agreements for filing.

Comment date: June 29, 2001, in accordance with Standard Paragraph E at the end of this notice.

34. California Independent System Operator Corporation

[Docket No. ER01-2263-000]

Take notice that the California Independent System Operator Corporation, (ISO) on June 8, 2001, tendered for filing a Participating Generator Agreement between the ISO and Soledad Energy, Inc. for acceptance by the Commission.

The ISO states that this filing has been served on Soledad Energy, Inc. and the California Public Utilities Commission.

Comment date: June 29, 2001, in accordance with Standard Paragraph E at the end of this notice.

35. California Independent System Operator Corporation

[Docket No. ER01-2264-000]

Take notice that the California Independent System Operator Corporation, (ISO) on June 8, 2001, tendered for filing a Meter Service Agreement for ISO Metered Entities between the ISO and PPM One LLC for acceptance by the Commission.

The ISO states that this filing has been served on PPM One LLC and the California Public Utilities Commission.

Comment date: June 29, 2001, in accordance with Standard Paragraph E at the end of this notice.

36. Pacific Gas & Electric Company

[Docket No. ER01-2269-000]

Take notice that on June 8, 2001, Pacific Gas and Electric Company (PG&E) tendered for filing a Generator Special Facilities Agreement (GSFA) and a Supplemental Letter Agreement between PG&E and Elk Hills Power, LLC (Elk Hills) (collectively Parties).

The GSFA permits PG&E to recover the ongoing costs associated with owning, operating and maintaining the Special Facilities. As detailed in the Special Facilities Agreement, PG&E proposes to charge Elk Hills a monthly Cost of Ownership Charge equal to the rates for transmission-level, customer-financed facilities in PG&Es currently effective Electric Rule 2, as filed with the California Public Utilities Commission (CPUC PG&E's currently effective rate of 0.31% for transmission-level, customer-financed Special Facilities is contained in the CPUCs Advice Letter 1960-G/1587-E, effective August 5, 1996, a copy of which is included as Attachment 2 of this filing.

Copies of this filing have been served upon Elk Hills, the California Independent System Operator Corporation and the CPUC.

Comment date: June 29, 2001, in accordance with Standard Paragraph E at the end of this notice.

37. Elwood Energy II, LLC

[Docket No. ER01-2270-000]

Take notice that on June 8, 2001, Elwood Energy II, LLC tendered for filing an amended and restated service agreement for sales of energy and capacity to Aquila Energy Marketing Corporation and UtiliCorp United Inc.

Comment date: June 29, 2001, in accordance with Standard Paragraph E at the end of this notice.

38. Allegheny Energy Service Corporation on behalf of Green Valley Hydro, LLC

[Docket No. ER01-2271-000]

Take notice that on June 8, 2001, Allegheny Energy Service Corporation on behalf of Green Valley Hydro, LLC filed Service Agreement No. 1 to add one (1) new Customer to the Market Rate Tariff under which Green Valley Hydro, LLC offers generation services. Green Valley Hydro, LLC requests a waiver of notice requirements to make service available as of June 1, 2001 to Allegheny Energy Supply Company, LLC.

Comment date: June 28, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15456 Filed 6-19-01; 8:45 am]

BILLING CODE 6717-01-P